DEPARTMENT OF AGRICULTURE

National Institute of Food and Agriculture

Solicitation of Veterinary Shortage Situation Nominations for the Veterinary Medicine Loan Repayment Program

AGENCY: National Institute of Food and Agriculture, USDA.

ACTION: Notice and solicitation for nominations.

SUMMARY: The National Institute of Food and Agriculture (NIFA) is soliciting nominations of veterinary service shortage situations for the Veterinary Medicine Loan Repayment Program (VMLRP) for fiscal years (FY) 2023-2025, as authorized under the National Veterinary Medical Services Act (NVMSA). This notice initiates the nomination period for FY 2023 and prescribes the procedures and criteria to be used by eligible nominating officials (State, Insular Area, DC and Federal Lands) to nominate veterinary shortage situations for fiscal years 2023-2025. Each year all eligible nominating officials may submit nominations, up to the maximum indicated for each entity in this notice. NIFA is conducting this solicitation of veterinary shortage situation nominations under an approved information collection (OMB Control Number 0524-0050).

DATES: Shortage situation nominations must be submitted between the first Monday in October and the second Monday in November in each relevant fiscal year.

Fiscal year | First day to submit shortage nominations | Last day to submit shortage nominations
2023 | October 3, 2022 | November 14, 2022.
2024 | October 2, 2023 | November 13, 2023.
2025 | October 7, 2024 | November 12, 2024.

ADDRESSES: Submissions must be made by downloading the Veterinarian Shortage Situation nomination form provided in the VMLRP Shortage Situations section of the NIFA website at https://nifa.usda.gov/grants/programs/veterinary-medicine-loan-repayment-program, completing the fillable PDF electronically, and submitting it via email to vmlrp.applications@usda.gov.

FOR FURTHER INFORMATION CONTACT: VMLRP Program Coordinator; National Institute of Food and Agriculture; U.S. Department of Agriculture; 805 Pennsylvania Avenue, Kansas City, MO 64105; Email: vmlrp.applications@usda.gov.

SUPPLEMENTARY INFORMATION:

Background and Purpose: Food supply veterinary medicine embraces a broad array of veterinary professional activities, specialties, and responsibilities, and is defined as all aspects of veterinary medicine's involvement in food supply systems, from traditional agricultural production to consumption. A series of studies and reports 1 2 3 4 5 6 7 have drawn attention to maldistributions in the veterinary workforce leaving some communities, especially rural areas, with insufficient access to food supply veterinary services.

¹ Government Accountability Office, Veterinary Workforce: Actions Are Needed to Ensure Sufficient Capacity for Protecting Public and Animal Health, GAO-09-178: Feb 18, 2009.

² National Academies of Science, Workforce Needs in Veterinary Medicine, 2013.

³ Andrus DM, Gwinner KP, Prince, JB. Food Supply Veterinary Medicine Coalition Report: Estimating FSM Demand and Maintaining the Availability of Veterinarians in Food Supply Related Disciplines in the United States and Canada, 2016. https://www.avma.org/KB/Resources/Reference/Pages/Food-Supply-Veterinary-Medicine-Coalition-Report.aspx.

⁴ Andrus DM, Gwinner KP, Prince, JB. Future demand, probable shortages and strategies for creating a better future in food supply veterinary medicine. 2006, JAVMA 229(1):57-69.

⁵ Andrus DM, Gwinner KP, Prince, JB. Attracting students to careers in food supply veterinary medicine. 2006, JAVMA 228(1):1693-1704.

⁶ Andrus DM, Gwinner KP, Prince, JB. Job satisfaction, changes in occupational area and commitment to a career in food supply veterinary medicine. 2006, JAVMA 228(12):1884-1893.

⁷ CAST, Impact of Recruitment and Retention of Food Animal Veterinarians on the U.S. Food Supply, Issue Papers—IP67: April 2020. https://www.cast-science.org/wp-content/uploads/2020/03/CAST_IP67_Vet-Students.pdf.

Two programs, born out of this concern, aim to mitigate the maldistribution of the veterinary workforce: the Veterinary Medicine Loan Repayment Program (VMLRP) and Veterinary Services Grant Program (VSGP), both administered by USDA-NIFA. VMLRP addresses increasing veterinary school debt by offering veterinary school debt repayments in exchange for service in shortage situations, while VSGP addresses other factors contributing to the maldistribution of veterinarians serving the agricultural sector. Specifically, the VSGP promotes availability and access to (1) specialized education and training which will enable veterinarians and veterinary technicians to provide services in designated veterinarian shortage situations, and (2) practice-enhancing equipment and personnel resources to enable veterinary practices to expand or improve access to veterinary services.

Paperwork Reduction Act: In accordance with the Office of Management and Budget (OMB) regulations (5 CFR part 1320) that implement the Paperwork Reduction Act of 1995 (44 U.S.C. 3501 et seq.), the information collection and recordkeeping requirements imposed by the implementation of these guidelines have been approved by OMB Control Number 0524-0050.

Table of Contents in Guidelines for Veterinary Shortage Situation Nominations

I. Preface and Authority

II. Nomination of Veterinary Shortage Situations

A. General

1. Eligible Shortage Situations

2. Authorized Respondents and Use of Consultation

3. State Allocation of Nominations

4. FY 2023-2025 Shortage Situation Nomination Process

5. Submission and Due Dates

6. Periods Covered

7. Definitions

B. Nomination Form

C. NIFA Review of Shortage Situation Nominations

1. Review Panel Composition and Process

2. Review Criteria

Guidelines for Veterinary Shortage Situation Nominations

I. Preface and Authority

In December 2003, the National Veterinary Medical Service Act (NVMSA) was passed into law adding section 1415A to the National Agricultural Research, Extension, and Teaching Policy Act of 1997 (NARETPA). This law established a new Veterinary Medicine Loan Repayment Program (7 U.S.C. 3151a) authorizing the Secretary of Agriculture to carry out a program of entering into agreements with veterinarians under which they agree to provide veterinary services in veterinarian shortage situations in return for repayment of qualified educational loans. In FY 2010, NIFA announced the first funding opportunity for the VMLRP.

Section 7104 of the 2014 Farm Bill (Pub. L. 113-79) added section 1415B to NARETPA, as amended, (7 U.S.C. 3151b) to establish the Veterinary Services Grant Program (VSGP). This amendment authorizes the Secretary of Agriculture to make competitive grants to qualified entities and veterinary practices that carry out programs in veterinarian shortage situations and for the purpose of developing, implementing, and sustaining veterinary services. Funding for the VSGP was first appropriated in FY 2016 through the Consolidated Appropriations Act, 2016 (Pub. L. 114-113).

Pursuant to the requirements enacted in the NVMSA of 2003 (as amended), and the implementing regulation for this Act, Part 3431 Subpart A of the VMLRP Final Rule [75 FR 20239-20248], NIFA hereby implements guidelines for eligible nominating officials to nominate veterinary shortage situations for the FY 2023-2025 program cycle.

II. Nomination of Veterinary Shortage Situations

A. General

1. Eligible Shortage Situations: Section 1415A of NARETPA, as amended and revised by Section 7105 of the Food, Conservation and Energy Act, directs determination of veterinarian shortage situations for the VMLRP to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

While the NVMSA (as amended) specifies priority be given to food animal medicine shortage situations, and that consideration also be given to specialty areas such as public health, epidemiology and food safety, the Act does not identify any areas of veterinary practice as ineligible. Accordingly, all nominated veterinary shortage situations will be considered eligible for submission.

A subset of the shortages designated for VMLRP applicants is also available to satisfy requirements, as applicable, for VSGP applicants applying to the Rural Practice Enhancement component of the program. In addition, a shortage situation under the VSGP must also be designated rural as defined in section 343(a) of the Consolidated Farm and Rural Development Act (7 U.S.C. 1991(a)).

Nominations describing either public or private practice veterinary shortage situations are eligible for submission.

2. Authorized Respondents and Use of Consultation: The only authorized respondent on behalf of each State is the chief State Animal Health Official (SAHO), as duly authorized by the Governor or the Governor's designee in each State. The only authorized respondent on behalf of the Federal Government is the Chief Federal Animal Health Officer (Deputy Administrator of Veterinary Services, the Animal and Plant Health Inspection Service or designee), as duly authorized by the Secretary of Agriculture. The eligible nominating official must submit nominations using the instructions provided in section A.4, FY 2023-2025 Shortage Situation Nomination Process. NIFA strongly encourages the nominating officials to involve leading health animal experts in the State in the identification and prioritization of shortage situation nominations.

3. State Allocation of Nominations: NIFA will accept the number of nominations equivalent to the maximum number of designated shortage areas for each State. For historical background and more information on the rationale for capping nominations and State allocation method, visit https://nifa.usda.gov/vmlrp-nomination-and-designation-veterinary-shortage-situations.

The maximum number of nominations (and potential designations) is based on data from the 2017 Agricultural Census conducted by the USDA National Agricultural Statistics Service (NASS). Awards from previous years have no bearing on a State's maximum number of allowable shortage nomination submissions or designations in any given year, or number of nominations or designations allowed for subsequent years. NIFA reserves the right in the future to proportionally adjust the maximum number of designated shortage situations per State to ensure a balance between available funds and the requirement to ensure that priority is given to mitigating veterinary shortages corresponding to situations of greatest need. Nomination Allocation tables for FY 2023-2025 are available under the VMLRP Shortage Situations section of the VMLRP website at https://nifa.usda.gov/resource/vmlrp-shortage-allocations.

Table I lists the maximum nomination allocations by State. Table II lists “Special Consideration Areas” which include any State or Insular Area not reporting data to NASS, reporting less than $1,000,000 in annual Livestock and Livestock Products Total Sales ($), and/or possessing less than 500,000 acres. One nomination is allocated to any State or Insular Area classified as a Special Consideration Area.

Table III shows the values and quartile ranks of States for two variables broadly correlated with demand for food supply veterinary services: “Livestock and Livestock Products Total Sales ($)” (LPTS) and “Land Area (acres)” (LA). The maximum number of NIFA-designated shortage situations per State is based on the sum of quartile rankings for LPTS and LA for each State and can be found in Table IV.

While Federal Lands are widely dispersed within States and Insular Areas across the country, they constitute a composite total land area over twice the size of Alaska. If the 200-mile limit for U.S. coastal waters and associated fishery areas are included, Federal Land total acreage would exceed 1 billion. Both State and Federal Animal Health officials have responsibilities for matters relating to terrestrial and aquatic food animal health on Federal Lands. Interaction between wildlife and domestic livestock, such as sheep and cattle, is particularly common in the plains States where significant portions of Federal lands are leased for grazing. The USDA Food Safety and Inspection Service (USDA-FSIS) ensures food safety in processing plants via Federal veterinarians' inspection of meat, poultry, Siluriformes and eggs. These Federal veterinarians ensure food is safe for human consumption and properly packaged and labeled. Therefore, both SAHOs and the Chief Federal Animal Health Officer (Deputy Administrator of Veterinary Services, the Animal and Plant Health Inspection Service or designee) may submit nominations to address shortage situations on or related to Federal Lands, or the USDA-FSIS. Nominations related to Federal Lands or USDA-FSIS submitted by SAHOs will count towards the maximum number of nominations for that individual state.

NIFA emphasizes that the shortage nomination allocation is set to broadly balance the number of designated shortage situations across States prior to the nomination and award phases of the VMLRP and VSGP. Awards will be made based strictly on the peer review panel's assessment according to each program's review criteria; thus no State, Insular Area or Federal designation will be given a preference for placement of awardees. Additionally, each designated shortage situation will be limited to one award per program.

4. FY 2023-2025 Shortage Situation Nomination Process: For the FY 2023-2025 program cycle, all eligible nominating officials submitting may: (1) request to retain designated status for any shortage situation successfully designated in the previous year and/or (2) submit new nominations. Any shortage from previous year not retained or submitted as a new nomination will not be considered a shortage situation in the next year. The total number of new nominations plus designated nominations retained (carried over) may not exceed the maximum number of nominations each eligible nominating official is permitted.

The following process is the mechanism for retaining a designated nomination: Each nominating official should review the map of VMLRP designated shortage situations for the previous year—FY 2022's map can be found here: (https://nifa.usda.gov/vmlrp-map) and download a PDF copy of the nomination form they wish to renew. If the nominating official wishes to retain (carry over) one or more designated nomination(s), the nominating official shall copy and paste the prior year information into the current year's nomination form and submit it to vmlrp.applications@usda.gov.

Both new and retained nominations must be submitted on the Veterinary Shortage Situation Nomination form provided in the VMLRP Shortage Situations section at https://nifa.usda.gov/vmlrp-nomination-and-designation-veterinary-shortage-situations.

Nominations retained (carried over) will be designated without review unless major changes in content are identified during administrative processing or the shortage has been retained for three years. Major changes in content or shortages already retained for three consecutive years will be treated as new submissions and undergo merit review.

If a state elects not to participate in the nomination process in a given year, the SAHO, or their designee, will notify the NIFA Program Office by email at vmlrp.applications@usda.gov prior to the deadline to submit shortage nominations each year the state elects not to participate.

5. Submission and Due Date: Submissions must be made by downloading the Veterinarian Shortage Situation nomination form provided in the VMLRP Shortage Situations section at https://nifa.usda.gov/vmlrp-shortage-situations, completing the fillable PDF form, and submitting it via email to: vmlrp.applications@usda.gov.

Both new and retained (carry-over) nominations must be submitted on or before the deadlines in the table below.

Fiscal year | First day to submit shortage nominations | Last day to submit shortage nominations
2023 | October 3, 2022 | November 14, 2022.
2024 | October 2, 2023 | November 13, 2023.
2025 | October 7, 2024 | November 12, 2024.

7. Period Covered: Each shortage situation is approved for one program year cycle only. However, any previously approved shortage situation not filled in a given program year may be resubmitted as a retained (carry-over) nomination. Retained (carry-over) shortage nominations (without any revisions) will be automatically approved for up to three years before requiring another merit review. By resubmitting a carry-over nomination, the nominating official is affirming that in his or her professional judgment the original case made for shortage status, and the original description of needs, remain current and accurate.

8. Definitions: For the purpose of implementing the solicitation for veterinary shortage situations, the definitions provided in 7 CFR part 3431 are applicable. Given the evolving nature of food supply veterinary medicine, the Secretary has determined that equines used in agricultural production, any vertebrates or invertebrates that are consumed by, or produce food consumed by, humans are to be included in the list of food animals.

B. Nomination Form

The VMLRP Shortage Nomination Form must be used to nominate veterinarian shortage situations. Once designated as a shortage situation, VMLRP applicants will use the information to select shortage situations they are willing and qualified to fill, and to guide the preparation of their applications. NIFA will use the information to assess contractual compliance of awardees. The form is available in the VMLRP Shortage Situations section at https://nifa.usda.gov/vmlrp-nomination-and-designation-veterinary-shortage-situations. See Part II A. 5. for submission information. Resources to complete each field can be found at https://nifa.usda.gov/resource/vmlrp-veterinary-shortage-situation-nomination-guide and https://nifa.usda.gov/resource/vmlrp-shortage-nomination-form.

C. NIFA Review of Shortage Situation Nominations

1. Review Panel Composition and Process: NIFA will convene a panel of food supply veterinary medicine experts from Federal and/or State agencies, industry, private mixed or large animal practice or an institution receiving Animal Health and Disease Research Program funds under section 1433 of NARETPA or an 1862 Land-Grant institution, to review the nominations and make recommendations to the National Program Leader. NIFA will review the panel's recommendations and designate the VMLRP shortage situations. The list of approved shortage situations will be made available on the VMLRP website at www.nifa.usda.gov/vmlrp.

2. Review Criteria: Criteria used by the shortage situation nomination review panel and NIFA for certifying a veterinary shortage situation will be consistent with the information requested in the shortage situations nomination form. NIFA understands the process for defining the risk landscape associated veterinary service shortages within a State may require consideration of many qualitative and quantitative factors. In addition, each shortage situation will be characterized by a different array of subjective and objective supportive information that must be developed into a cogent case identifying, characterizing, and justifying a given geographic or disciplinary area as deficient in certain types of veterinary capacity or service. To accommodate the uniqueness of each shortage situation, the nomination form provides opportunities to present a case using both supportive metrics and narrative explanations to define and explain the proposed need.

While NIFA anticipates some arguments made in support of a given shortage situation will be qualitative, respondents are encouraged to present verifiable quantitative and qualitative evidentiary information wherever possible. Absence of sufficient data to support a shortage such as animal and veterinarian census data for the proposed shortage area(s), or sufficient information regarding the characteristics of the shortage so that applicants may prepare successful applications and panelists are able to fully evaluate the fit of the applicant to the shortage area, may lead the panel to recommend revision of the shortage nomination to address these issues. If the revisions are not addressed, the shortage nominations will not be approved.

Done in Washington, DC, this day of May 24, 2022.
Dionne Toombs,
Acting Director, National Institute of Food and Agriculture, U.S. Department of Agriculture.

[FR Doc. 2022-13321 Filed 6-21-22; 8:45 am]

BILLING CODE 3410-22-P